DEPARTMENT OF AGRICULTURE

Forest Service

Woody Biomass Utilization Grant Award

AGENCY: Forest Service, USDA.

ACTION: Notice of award.

SUMMARY: The USDA Forest Service, State and Private Forestry, Forest Products Laboratory, Madison, WI, awarded a grant to Flambeau River Papers, LLC, Park Falls, WI in the amount of $1.925MIL for a project titled “Biomass-to-Fuel”. This grant is being used by the grantee to support its ongoing effort in determining the potential technical and economic viability of constructing and operating a demonstration biomass-to-liquids biofuels facility, which would be co-located with the company's existing pulp and paper mill. If successful, the biomass-to-liquids facility would generate renewable energy to operate the pulp and paper mill, as well as producing a marketable liquid transportation fuel.

DATES: Grant award—March 17, 2008.

ADDRESSES: USDA Forest Service, Forest Products Laboratory, One Gifford Pinchot Drive, Madison, WI 53726-2398.

FOR FURTHER INFORMATION CONTACT: For questions regarding the grant award, contact William Clark, Grants and Agreements Specialist, (608) 231-9282, wlclark@fs.fed.us.

Individuals who use telecommunication devices for the deaf (TDD) may call the Federal Information Relay Service (FIRS) at 1-800-877-8339 between 8 a.m. and 8 p.m., Eastern Standard Time, Monday through Friday.

Dated: March 24, 2008.
Ann M. Bartuska,
Deputy Chief for Research & Development.

[FR Doc. E8-6395 Filed 3-27-08; 8:45 am]

BILLING CODE 3410-11-P